DEPARTMENT OF HOMELAND SECURITY

Coast Guard

33 CFR Part 165

[Docket No. USCG-2021-0376]

Safety Zones; Annual Events in the Captain of the Port Detroit Zone

AGENCY: Coast Guard, Department of Homeland Security (DHS).

ACTION: Notice of enforcement of regulation.

SUMMARY: The Coast Guard will enforce various safety zones for annual marine events in the Captain of the Port Detroit zone. Enforcement of these zones is necessary and intended to protect safety of life and property on the navigable waters immediately prior to, during, and immediately after these fireworks events. During the aforementioned period, the Coast Guard will enforce restrictions upon, and control movement of, vessels in a specified area immediately prior to, during, and immediately after fireworks events. During each enforcement period, no person or vessel may enter the respective safety zone without permission of the Captain of the Port Detroit or his designated representative.

DATES: The regulations in 33 CFR 165.941, Table 1, will be enforced for the safety zones identified in the SUPPLEMENTARY INFORMATION section below for the dates and times specified.

FOR FURTHER INFORMATION CONTACT: If you have questions on this document, call or email Tracy Girard, Prevention Department, telephone (313) 568-9564, email Tracy.M.Girard@uscg.mil.

SUPPLEMENTARY INFORMATION: The Coast Guard will enforce the safety zones listed in 33 CFR 165.941, Table 1, Safety Zones; Annual Events in the Captain of the Port Detroit Zone, at the following dates and times for the following events:

(1) Bay-Rama Fish Fly Festival Fireworks, New Baltimore, MI. The safety zone listed in § 165.941, Table 1(3), will be enforced from 10 p.m. to 10:30 p.m. on June 24, 2021. In the case of inclement weather on June 24, 2021, this safety zone will be enforced from 10 p.m. to 10:30 p.m. on June 25, 2021.

(2) Algonac Fireworks Festival, Algonac, MI. The safety zone listed in § 165.941, Table 1(7), will be enforced from 10 p.m. to 10:30 p.m. on July 3, 2021. In the case of inclement weather on July 3, 2021, this safety zone will be enforced from 10 p.m. to 13:30 p.m. on July 2, 2021.

(3) Bay City Fireworks Festival, Bay City, MI. The safety zone listed in § 165.941, Table 1(8), will be enforced from 9 p.m. to 11 p.m. on July 1, July 2, and July 3, 2021. In the case of inclement weather on any scheduled day, this safety zone will be enforced from 9 p.m. to 11 p.m. on July 4, 2021.

(4) Caseville Fireworks, Caseville, MI. The safety zone listed in § 165.941, Table 1(9), will be enforced from 10 p.m. to 11 p.m. on July 3, 2021. In the case of inclement weather on July 3, 2021, this safety zone will be enforced from 10 p.m. to 11 p.m. on July 5, 2021.

(5) Ecorse Fireworks, Ecorse, MI. The safety zone listed in the § 165.941, Table 1(10), will be enforced from 9:30 p.m. to 10:30 p.m. on July 10, 2021. In the case of inclement weather on July 10, 2021, this safety zone will be enforced from 9:30 p.m. to 10:30 p.m. on July 11, 2021.

(6) Grosse Ile Fireworks, Grosse Ile, MI. The safety zone listed in the § 165.941 Table 1(11), will be enforced from 10 p.m. to 10:30 p.m. on July 3, 2021. In the case of inclement weather on July 3, 2021, this safety zone will be enforced from 10 p.m. to 10:30 p.m. on July 4, 2021.

(7) Grosse Pointe Yacht Fireworks, Grosse Pointe Shores, MI. The safety zone listed in § 165.941, Table 1(13), will be enforced from 10 p.m. to 10:30 p.m. on July 4, 2021. In the case of inclement weather on July 4, 2021, this safety zone will be enforced from 10 p.m. to 10:30 p.m. on July 5, 2021.

(8) Harbor Beach Fireworks, Harbor Beach, MI. The safety zone listed in § 165.941, Table 1(14), will be enforced from 10 p.m. to 10:30 p.m. on July 10, 2021. In the case of inclement weather on July 10, 2021, this safety zone will be enforced from 10 p.m. to 10:30 p.m. on July 11, 2021.

(9) Belle Maer Harbor Fireworks, Harrisville, MI. The safety zone listed in § 165.941, Table 1(15), will be enforced from 10 p.m. to 10:30 p.m. on July 4, 2021. In the case of inclement weather on July 4, 2021, this safety zone will be enforced from 10 p.m. to 10:30 p.m. on July 5, 2021.

(10) Harrisville Fireworks, Harrisville, MI. The safety zone listed in § 165.941, Table 1(16), will be enforced from 10 p.m. to 10:30 p.m. on July 3, 2021.

(11) Lexington Fireworks, Lexington, MI. The safety zone listed in § 165.941, Table 1(17), will be enforced from 10 p.m. to 10:30 p.m. on July 2, 2021. In the case of inclement weather on July 2, 2021, this safety zone will be enforced from 10 p.m. to 10:30 p.m. on July 3, 2021.

(12) Oscoda Township Fireworks, Oscoda, MI. The safety zone listed in § 165.941, Table 1(18), will be enforced from 10 p.m. to 10:30 p.m. on July 4, 2021. In the case of inclement weather on July 4, 2021, this safety zone will be enforced from 10 p.m. to 10:30 p.m. on July 5, 2021.

(13) Port Austin Fireworks, Port Austin, MI. The safety zone listed in § 165.941, Table 1(19), will be enforced from 10 p.m. to 10:30 p.m. on July 4, 2021. In the case of inclement weather on July 4, 2021, this safety zone will be enforced from 10 p.m. to 10:30 p.m. on July 5, 2021.

(14) Port Sanilac Fireworks, Port Sanilac, MI. The safety zone listed in § 165.941, Table 1(20), will be enforced from 10 p.m. to 10:30 p.m. on July 3, 2021. In the case of inclement weather on July 3, 2021, this safety zone will be enforced from 10 p.m. to 10:30 p.m. on July 4, 2021.

(15) St. Clair Fireworks, St. Clair, MI. The safety zone listed in § 165.941, Table 1(21), will be enforced from 10 p.m. to 10:45 p.m. on July 4, 2021. In the case of inclement weather on July 4, 2021, this safety zone will be enforced from 10 p.m. to 10:45 p.m. on July 5, 2021.

(16) St. Clair Shores Fireworks, St. Clair Shores, MI. The safety zone listed in § 165.941, Table 1(22), will be enforced from 9:30 p.m. to 10:15 p.m. on June 25, 2021. In the case of inclement weather on June 25, 2021, this safety zone will be enforced from 9:30 p.m. to 10:15 p.m. on June 26, 2021.

(17) Tawas Fireworks, Tawas, MI. The safety zone listed in § 165.941, Table 1(23), will be enforced from 10 p.m. to 11 p.m. on July 4, 2021. In the case of inclement weather on July 4, 2021, this safety zone will be enforced from 10 p.m. to 11 p.m. on July 5, 2021.

(18) Port Huron Blue Water Festival Fireworks, Port Huron, MI. The safety zone listed in § 165.941, Table 1(27), will be enforced from 10 p.m. to 11 p.m. on July 22, 2021. In the case of inclement weather on July 22 2021, this safety zone will be enforced from 10 p.m. to 11 p.m. on July 23, 2021.

(19) Marine City Maritime Days Fireworks, Marine City, MI. The safety zone listed in § 165.941, Table 1(33), will be enforced from 10 p.m. to 11 p.m. on August 6, 2021. In the case of inclement weather on August 6, 2021, this safety zone will be enforced from 10 p.m. to 11 p.m. on August 7, 2021.

(20) Washington Township Summerfest Fireworks, Toledo, OH. The safety zone listed in § 165.941, Table 1(35), will be enforced from 9:30 p.m. until 10:30 p.m. on June 26, 2021.

(21) Toledo Country Club 4th of July Fireworks, Toledo, OH. The safety zone listed in § 165.941, Table 1(39), will be enforced from 9:30 p.m. until 10:30 p.m. on July 2, 2021.

(22) Lakeside July 4th Fireworks, Lakeside, OH. The safety zone listed in § 165.941, Table 1(40), will be enforced from 9:15 p.m. until 10:15 p.m. on July 4, 2021. In case of inclement weather on July 4, 2021. This safety zone will be enforced on July 5, 2021.

Under the provisions of 33 CFR 165.23, entry into, transiting, or anchoring within these safety zones during the enforcement period is prohibited unless authorized by the Captain of the Port Detroit or his designated representative. Vessels that wish to transit through the safety zones may request permission from the Captain of the Port Detroit or his designated representative. Requests must be made in advance and approved by the Captain of Port Detroit before transits will be authorized. Approvals will be granted on a case by case basis. The Captain of the Port Detroit may be contacted via U.S. Coast Guard Sector Detroit on channel 16, VHF-FM or by calling (313) 568-9564. The Coast Guard will give notice to the public via Local Notice to Mariners and VHF radio broadcasts that the regulation is in effect.

This document is issued under authority of 33 CFR 165.941, Table 1, and 5 U.S.C. 552(a). If the Captain of the Port Detroit determines that any of these safety zones need not be enforced for the full duration stated in this document, he may suspend such enforcement and notify the public of the suspension via a Broadcast Notice to Mariners.

Dated: June 14, 2021.
Brad W. Kelly,
Commander, U.S. Coast Guard, Captain of the Port Detroit.

[FR Doc. 2021-12839 Filed 6-16-21; 8:45 am]

BILLING CODE 9110-04-P